DEPARTMENT OF DEFENSE

Department of the Air Force

Notice To Extend Public Comment Period for United States Air Force Modernizations and Enhancement of Ranges, Airspace, and Training Areas in the Joint Pacific Alaska Range Complex in Alaska Environmental Impact Statement

AGENCY: The United States Air Force, DoD.

ACTION: Notification of extension of public comment period.

SUMMARY: Alaskan Command (ALCOM), on behalf of the U.S. Air Force and U.S. Army is issuing this notice to advise the public of an extension to the public comment period. The initial Notice of Availability published in the Federal Register on March 30, 2012 (Vol. 77, No. 62/Notices/19282), requested public comments no later than June 7, 2012. ALCOM has extended the deadline for submitting public comments to July 9, 2012. All substantive comments on the Draft EIS received during the public comment period will be considered in the preparation of the Final EIS.

FOR FURTHER INFORMATION CONTACT: Please direct any written comments or requests for information to Capt Tania Bryan, ALCOM Public Affairs, 9480 Pease Avenue, Suite 120, JBER, AK 99506, ph: 907-552-0876.

Henry Williams Jr.,
Acting Air Force Federal Register Liaison Officer.

[FR Doc. 2012-13570 Filed 6-4-12; 8:45 am]

BILLING CODE 5001-10-P